DEPARTMENT OF STATE

[Public Notice 6426]

Establishment of an Online English Language Program

ACTION: Request for information.

SUMMARY: The United States Department of State's Bureau of Educational and Cultural Affairs (ECA) seeks to tap private sector ingenuity and capacity by partnering with the private sector to create an online English language learning and literacy series for economically disadvantaged youth outside the United States that will be made available without charge. Through English learning programs, traditionally underserved populations will gain access to diverse sources of information, the ability to participate in the global marketplace, and a better understanding of the values that shape responsible citizens of the world.

DATES: The Department will accept comments from the public up to December 17, 2008.

ADDRESSES: You may submit comments, identified by any of the following methods:

• Persons with access to the Internet may view this notice and provide comments by going to the regulations.gov Web site at: http://www.regulations.gov/index.cfm.

• Mail (paper, disk, or CD-ROM submissions): U.S. Department of State, Attn: Ms. Suzanne Matula, Office of English Language Programs, SA-44, 301 4th Street, SW., Room 304 Washington, DC 20547.

• E-mail: ExchangesDirect@state.gov. You must include the Title in the subject line of your message.

FOR FURTHER INFORMATION CONTACT: Ms. Suzanne Matula, Office of English Language Programs, (202) 453-8856; SA-44, 301 4th Street, SW., Room 304 Washington, DC 20547.

SUPPLEMENTARY INFORMATION: This Request for Information (RFI) is a general solicitation of public comments that seeks to gather input as to the best technical platforms and delivery mechanisms for this learning series (whose content will be provided by ECA) and to determine which private sector institutions are active in the development and integration of these platforms and mechanisms and which are able to provide these platforms free of charge

This RFI is issued solely for information and planning purposes and does not constitute a Request for Proposal (RFP). In accordance with FAR 15.209(c), responses to this RFI are not offers and will not be accepted by the Government to form a binding contract. The Government will not award a contract based on this RFI, nor will it pay for the information provided pursuant to this RFI. Responses to this RFI will be treated as general information only. Responses to this RFI will not be returned.

Background: The global demand for English language instruction is at an all time high. English is the “entry point” that allows people to participate in the increasingly globalized world economy, access diverse sources of information, broadens their understanding of democratic traditions and contributes more robustly to the socio-economic prosperity of their own families, communities and societies. In much of the world, demand for English language instruction far outpaces supply, and available instruction is often far beyond the financial means of the average language learner.

The United States Government (USG), academia and business leaders have a rare opportunity to work together to help the world's estimated 2 billion individuals desiring to learn English to master this universally-valued skill. Developing and providing a new means of gaining English language skills will be a powerful way for the USG and private sector to respond to what is both an unprecedented challenge and opportunity.

ECA wishes to collaborate with the best of U.S. business, NGO and academic communities to create an online English language literacy and communication series: English Access Online. This program will be sponsored by ECA's Office of English Language Programs, which creates and implements high quality, targeted English language programs overseas. More information on these programs can be found at http://exchanges.state.gov/englishteaching/.

Detail

Goals and Parameters

ECA seeks to develop a compelling, technologically innovative, multi-media online English language learning and literacy series that will be available free of charge to economically disadvantaged youth around the world. The typical user has been defined as a foreign secondary school student with little or no English language ability.

We seek proposals that have several or all of the following characteristics:

• Free and oriented to self-study so that all learners, from all economic backgrounds and geographic areas, have access and opportunity.

• Designed to encourage creative and critical thinking.

• Immersive, to allow interactive language learning, interpersonal connections and collaboration among language learners. We would like to consider virtual reality and 3-D environments.

• Multi-level, to allow progression from a novice-low level to an intermediate-high level of proficiency.

• Designed to use a variety of instructional technologies to support diverse learning styles.

• Designed to monitor and record user performance and select appropriate learning tasks based on the learner/user's demonstrated level of language proficiency.

• Designed to provide automated assessment and user performance tracking.

• Oriented around stories or themes that highlight American culture and values to provide a context for language learning, encourage critical thinking, and promote mutual understanding.

• Technologically scalable, so that individuals with varying levels of telecommunications infrastructure and capacity, and available hardware can access instruction.

To support learner autonomy and linkages across different national educational programs, the language learning framework for English Access Online will be based on the norms and guidelines of the National Council of State Supervisors for Languages (NCSSFL), which in turn have equivalents in the Common European Framework of Reference (CEFR) for languages.

The NCSSFL approach uses Can-Do statements associated with different modes of language (i.e., listening, speaking, reading, writing) and a ten-level scale of language proficiency. There are 125 Can-Do statements associated with the five levels encompassed by this range of proficiency. For each Can-Do statement, there will be:

(a) An instructional component, which presents, explains, and models new linguistic and cultural content (one per Can-Do statement);

(b) A series of language-use tasks of varying levels of difficulty (called a “lesson cycle”), which provides learners with multiple opportunities to practice and produce English in an immersive virtual reality environment (three lesson cycles per Can-Do statement × three difficulty levels × two tasks per difficulty level = 18 language-use tasks per Can-Do statement); and

(c) A series of feedback components, which provide learners with detailed feedback on their performance on specific language use tasks (three feedback components per lesson cycle × three lesson cycles per Can-Do statement = nine feedback components per Can-Do statement).

Request for Information: ECA has completed the first phase of the pedagogical development work for English Access Online and is in the process of identifying its potential content development partners. ECA, along with its content development partners, will be responsible for authoring the system's instructional content (creating scripts and storyboards, determining how instructional content will be presented, specifying the nature of language production tasks, specifying how feedback will be presented to the user, etc.).

ECA in this RFI is seeking private sector entities as partners to undertake software and application development, Web-enablement of the content, production (music, animation, video, etc.), and development and integration of a global and scaleable delivery mechanism and systems integration. ECA requests comment from any interested members of the public on the following questions, and is also seeking companies, universities, NGOs and other partners willing to contribute their resources, time and vision free of charge to develop these aspects of English Access Online.

1. Our vision is to provide English Access Online in a Web-based, virtual reality environment that would be of interest and engaging to young learners. Our preference is that learners be able to use English Access Online from any computer anywhere, and have opportunities for interactive learning. Is this the most appropriate delivery platform? If so, which virtual reality environments are most appropriate for this purpose? In not, would another platform be preferable? What interfaces would need to be purchased/developed to “enable” content on these platforms?

2. ECA would like English Access Online to be a long-term initiative that evolves as technology evolves. Of the available computing platforms, which are more or less suited to dynamic growth and incorporation of new technologies, including mobile technologies (e.g., cell phones)?

3. Are there off-the-shelf products that could be used as the application interfaces for English Access Online, or do new systems need to be developed? Which private sector entities are adept at modifying existing systems or developing new ones?

4. Should the development of English Access Online be separated from ongoing hosting and management? If so, which private sector entities can provide content hosting and management?

5. English Access Online will require a learning management system that will provide automated assessment and user performance tracking. The adaptive software will monitor learner success rates on activities, offer more detailed tutorials for areas of difficulty, and redirect the learners to lower/higher level learning activities. English Access Online will track an individual student's progress and allow the student to log on anytime anywhere and pick up where he/she last left off. Are there available learning management systems that could be used for English Access Online or will it be necessary to develop a new learning management system that can be integrated with the delivery platform? Which private sector entities have expertise in developing, integrating, and/or modifying learning management systems?

6. How could voice recognition be used as part of the learning and assessment process?

7. What role could Voice Over Internet Protocol (VOIP) play in facilitating collaboration and interaction with the learning series and among learners?

8. Some English Access Online learners may not have access to high bandwidth or up-to-date hardware platforms. Should the platform for this program use the lowest common denominator platform available or is there a way to span the high-tech/low-tech gap with a dual capability system? What technologies should be used?

9. Which entities or organizations can provide English Access Online with video, music and animation that would represent American culture, comply with copyright laws and regulations and would be free of charge?

10. All of the above requires coordination between all parties and systems integration, as well as the expertise of a company with global reach that can ensure delivery of English Access Online to intended audiences. Which private sector entities have the expertise and global reach to contribute to this endeavor?

11. What privacy and security considerations, including compliance with relevant USG regulations, need to be addressed in the development of this system?

12. What is the timeframe required to accomplish our goals?

13. ECA believes that the viability of this project depends on a strong partnership among the USG, academia, and the private sector. Is a public-private partnership a viable framework for achieving the goals of this program? ECA and its academic partners can ONLY provide the pedagogical framework and curriculum content for English Access Online. What type of financial model could be used to provide for the technical platform/delivery mechanism, integration, and operations and maintenance of the system? Do private sector entities view this initiative as compatible with their corporate social responsibility objectives and/or to grow future markets and create new customers?

Dated: November 7, 2008.
Goli Ameri,
Assistant Secretary for Educational and Cultural Affairs, Department of State.

[FR Doc. E8-27233 Filed 11-14-08; 8:45 am]

BILLING CODE 4710-05-P